ENVIRONMENTAL PROTECTION AGENCY

[FRL-9259-5; Docket ID No. EPA-HQ-ORD-2010-1077]

Availability of Draft Report, Biofuels and the Environment: First Triennial Report to Congress

AGENCY: Environmental Protection Agency (EPA).

ACTION: Notice of peer review meeting and public comment period.

SUMMARY: EPA is announcing that it will convene an independent panel of experts to review the external review draft document titled, Biofuels and the Environment: The First Triennial Report to Congress (EPA/600/R-10/183A). The peer review meeting will be organized by Versar, Inc., an EPA contractor for external scientific peer review. The EPA also is announcing a 30-day public comment period for the draft document. The draft document was prepared by the National Center for Environmental Assessment (NCEA) within EPA's Office of Research and Development. The 2007 Energy Independence and Security Act (EISA) mandates increased production of biofuels (fuels derived from organic materials) from 9 billion gallons per year in 2008 to 36 billion gallons per year by 2022. EISA (Section 204) also requires the U.S. Environmental Protection Agency (EPA) to assess and report to Congress every three years on the current and potential future environmental and resource conservation impacts associated with increased biofuel production and use. Biofuels and the Environment: First Triennial Report to Congress is the first report on this issue.

The public comment period and the external peer review meeting are separate processes that provide opportunities for all interested parties to comment on the document. EPA intends to forward public comments that are submitted in accordance with this notice, to the external peer review panel, prior to the meeting for their consideration. When finalizing the draft document, EPA intends to consider any public comments that EPA receives in accordance with this notice.

EPA is releasing this draft document solely for the purpose of obtaining public comment and peer review under applicable information quality guidelines. This document does not represent and should not be construed to represent any Agency policy or determination.

EPA, through its Peer Review contractor, Versar, Inc., invites the public to register to attend the peer review meeting. In addition, EPA through Versar, Inc., invites the public to give oral and/or provide written comments during the meeting regarding the draft document under review. The draft document and EPA's charge to the peer reviewers are available primarily via the Internet on NCEA's home page under the Recent Additions and Publications menus at http://www.epa.gov/ncea. In preparing a final report, EPA will consider the comments and recommendations from the external peer review meeting and any public comments that EPA receives in accordance with this notice.

DATES: The peer review panel meeting will begin on March 14, 2011, at 9 a.m. and end at 5 p.m. The 30-day public comment period begins January 28, 2011, and ends February 28, 2011. Technical comments should be in writing and must be received by EPA by February 28, 2011.

ADDRESSES: The peer review meeting will be held at the Marriott Courtyard Arlington Crystal City/Reagan National Airport, 2899 Jefferson Davis Highway, Arlington, VA 22202, telephone: 703-549-3434. The EPA contractor, Versar, Inc., is organizing, convening and conducting the peer review meeting. To attend the meeting, register by March 7, 2011, by contacting Versar, Inc. via e-mail: saundkat@versar.com (subject line: Biofuels Report to Congress Peer Review Meeting), by telephone: 703-750-3000, ext. 545, or toll free at 1-800-2-VERSAR (1-800-283-7727), ask for Kathy Coon, the Biofuels Report to Congress Meeting Coordinator, or by faxing a registration request to 703-642-6809 (please reference the Biofuels Report to Congress Peer Review Meeting and include your name, title, affiliation, full address and contact information).

Information on Services for Individuals with Disabilities: EPA welcomes the attendance of the public at the Biofuels Report to Congress Peer Review Meeting and will make every effort to accommodate persons with disabilities. For information on access or services for individuals with disabilities, please contact Versar, Inc. via e-mail: saundkat@versar.com (subject line: Biofuels Report to Congress Peer Review Meeting), by telephone: 703-750-3000, ext. 545, or toll free at 1-800-2-VERSAR (1-800-283-7727), ask for Kathy Coon, the Biofuels Report to Congress Meeting Coordinator, or by faxing a registration request to 703-642-6809 (please reference the Biofuels Report to Congress Peer Review Meeting and include your name, title, affiliation, full address and contact information). To request accommodation of a disability, please contact Versar, Inc., preferably at least 10 days prior to the meeting, to give EPA as much time as possible to process your request.

The draft report, Biofuels and the Environment: First Triennial Report to Congress, is available primarily via the Internet on the National Center for Environmental Assessment's home page under the Recent Additions and Publications menus at http://www.epa.gov/ncea. A limited number of paper copies are available from the Information Management Team, NCEA; telephone: 703-347-8561; facsimile: 703-347-8691. If you are requesting a paper copy, please provide your name, mailing address, and the document title, Biofuels and the Environment: First Triennial Report to Congress. Copies are not available from Versar, Inc.

Comments may be submitted electronically via http://www.regulations.gov, by mail, by facsimile, or by hand delivery/courier. Please follow the detailed instructions as provided in the SUPPLEMENTARY INFORMATION section of this notice.

FOR FURTHER INFORMATION CONTACT: Questions regarding information, registration, access or services for individuals with disabilities, or logistics for the external peer-review meeting should be directed to Versar, Inc., 6850 Versar Center, Springfield, VA 22151, by e-mail: saundkat@versar.com (subject line: Biofuels Report to Congress Peer Review Meeting), by telephone: 703-750-3000, ext. 545 or toll free at 1-800-2-VERSAR (1-800-283-7727), ask for Kathy Coon, the Biofuels Report to Congress Meeting Coordinator. To request accommodation of a disability, please contact Versar, Inc. preferably at least 10 days prior to the meeting, to give as much time as possible to process your request.

For information on the public comment period, contact the Office of Environmental Information Docket; telephone: 202-566-1752; facsimile: 202-566-1753; or e-mail: ORD.Docket@epa.gov.

If you need technical information about the document, please contact Bob Frederick, National Center for Environmental Assessment (NCEA); telephone: 703-347-5308; facsimile: 703-347-8694; e-mail: frederick.bob@epa.gov.

SUPPLEMENTARY INFORMATION:

I. Information About the Report to Congress

Many different feedstocks can be used to produce different types of biofuels. This report focuses on impacts from production and use of six feedstocks: Corn and soybeans, which together account for the vast majority of biofuel feedstock currently in use, and four others (corn stover, perennial grasses, woody biomass and algae) that represent a range of feedstocks under development.

Two biofuels, ethanol (both conventional and cellulosic) and biomass-based diesel, are emphasized in this report because they are the most commercially viable in 2010 and/or projected to be the most commercially available by 2022.

As required by the Energy Independence and Security Act (Section 204) of 2007, the report covers impacts on air and water quality, soil quality and conservation, water availability, ecosystem health and biodiversity; the potential invasiveness of feedstocks; and international environmental impacts. This report reviews impacts and mitigation tools across the entire biofuel supply chain, including feedstock production and logistics, and biofuel production, distribution, and use.

Throughout the biofuel supply chain, activities take place and materials are used that have the potential to impact the environment or affect resource use and availability. The specific impacts associated with a particular feedstock or biofuel will vary depending on many factors, including the type, source and method of feedstock production; the technology used to convert the feedstock to fuel; methods used and distances traveled to transport biofuels; the types and quantities of biofuels used; and, controls in place to avoid or mitigate any impacts. EPA's ability to assess environmental and resource conservation impacts is constrained by substantial uncertainties. Since many feedstock technologies are in the early stages of research and development, data relevant to impacts are limited and projections of their potential future use are highly speculative.

II. Meeting Information

Members of the public may attend the peer review meeting as observers and there will be a limited time of no more than five minutes for individual comments from the public during the meeting. Please let Versar, Inc. know if you wish to make comments during the meeting. Space is limited, and reservations will be accepted on a first-come, first-served basis.

III. How To Submit Technical Comments to the Docket at www.regulations.gov

Submit your comments, identified by Docket ID No. EPA-HQ-ORD-2010-1077, by one of the following methods:

• http://www.regulations.gov: Follow the on-line instructions for submitting comments.

• E-mail: ORD.Docket@epa.gov.

• Fax: 202-566-1753.

• Mail: Office of Environmental Information (OEI) Docket (Mail Code: 2822T), U.S. Environmental Protection Agency, 1200 Pennsylvania Ave., NW., Washington, DC 20460. The phone number is 202-566-1752.

• Hand Delivery: The OEI Docket is located in the EPA Headquarters Docket Center, Room 3334 EPA West Building, 1301 Constitution Ave., NW., Washington, DC. The EPA Docket Center Public Reading Room is open from 8:30 a.m. to 4:30 p.m., Monday through Friday, excluding legal holidays. The telephone number for the Public Reading Room is 202-566-1744. Deliveries are only accepted during the Docket's normal hours of operation, and special arrangements should be made for deliveries of boxed information.

If you provide comments by mail or hand delivery, please submit three copies of the comments. For attachments, provide an index, number pages consecutively with the comments, and submit an unbound original and three copies.

Instructions: Direct your comments to Docket ID No. EPA-HQ-ORD-2010-1077. Please ensure that your comments are submitted within the specified comment period. Comments received after the closing date will be marked “late” and may only be considered if time permits. It is EPA's policy to include all comments it receives in the public docket without change and to make the comments available online at http://www.regulations.gov, including any personal information provided, unless a comment includes information claimed to be Confidential Business Information (CBI) or other information whose disclosure is restricted by statute. Do not submit information that you consider to be CBI or otherwise protected through http://www.regulations.gov or e-mail. The http://www.regulations.gov Web site is an “anonymous access” system, which means EPA will not know your identity or contact information unless you provide it in the body of your comment. If you send an e-mail comment directly to EPA without going through http://www.regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption and be free of any defects or viruses. For additional information about EPA's public docket visit the EPA Docket Center homepage at http://www.epa.gov/epahome/dockets.htm.

Docket: Documents in the docket are listed in the http://www.regulations.gov index. Although listed in the index, some information is not publicly available, e.g., CBI or other information whose disclosure is restricted by statute. Certain other materials, such as copyrighted material, are publicly available only in hard copy. Publicly available docket materials are available either electronically in http://www.regulations.gov or in hard copy at the OEI Docket in the EPA Headquarters Docket Center.

Dated: January 24, 2011.
Darrell A. Winner,
Acting Director, National Center for Environmental Assessment.

[FR Doc. 2011-1920 Filed 1-27-11; 8:45 am]

BILLING CODE 6560-50-P